DEPARTMENT OF THE INTERIOR

Bureau of Land Management

[WO-350-1430-EU-24 1A]

OMB Approval Number 1004-0004; Information Collection Submitted to the Office of Management and Budget Under the Paperwork Reduction Act

The Bureau of Land Management (BLM) has sent a request to extend the current approved information collection to the Office of Management and Budget (OMB) under the provisions of the Paperwork Reduction Act of 1995 (44 U.S.C. 3501 et seq.). On July 11, 2002, the BLM published a notice in the Federal Register (67 FR 45984) requesting comment on this information collection. The comment period ended on September 9, 2002. BLM received no comments. You may obtain copies of the collection of information and related forms and explanatory material by contacting the BLM Information Collection Clearance Officer at the telephone number listed below.

The OMB must respond to this request within 60 days but may respond after 30 days. For maximum consideration your comments and suggestions on the requirement should be directed within 30 days to the Office of Management and Budget, Interior Department Desk Officer (1004-0004), at OMB-OIRA via facsimile to (202) 395-5806 or e-mail to Ruth_Solomon@omb.eop.gov. Please provide a copy of your comments to the Bureau Information Collection Clearance Office (WO-630), Bureau of Land Management, Eastern States Office, 7450 Boston Blvd., Springfield, Virginia 22153.

Nature of Comments: We specifically request your comments on the following:

1. Whether the collection of information is necessary for the proper functioning of the agency, including whether the information will have practical utility.

2. The accuracy of our estimates of the information collection burden, including the validity of the methodology and assumptions we use;

3. Ways to enhance the quality, utility and clarity of the information we collect; and

4. Ways to minimize the information collection burden on those who are to respond, including the use of appropriate automated, electronic, mechanical, or other forms of information technology.

Title: Desert-Land Entry (43 CFR 2520).

OMB Approval Number: 1004-0004.

Bureau Form Number: 2520-1.

Abstract: We use the information to determine if an individual is eligible to make a desert-land entry to reclaim, irrigate, and cultivate arid and semiarid public lands administered by the BLM in the Western States. The provisions of the Desert Land Act of March 3, 1877 as amended (43 U.S.C. 231, 321 et seq.), and the regulations in 43 CFR 2520 establish guidelines and procedures for the orderly and timely processing of applications for desert-land entries.

Frequency: Once.

Description of Respondents: Individuals, small businesses, and large corporations.

Estimated Completion Time: 2 hours.

Annual Response: 3.

Application Fee Per Response: $15.00.

Annual Burden Hours: 6.

Bureau Clearance Officer: Michael Schwartz, (202) 452-5033.

Dated: July 11, 2003.
Michael H. Schwartz,
Bureau of Land Management, Information Collection Clearance Officer.

[FR Doc. 03-19339 Filed 7-29-03; 8:45 am]

BILLING CODE 4310-84—M